INTERNATIONAL TRADE COMMISSION

[Investigation Nos. 731-TA-770-773 and 775 (Third Review)]

Stainless Steel Wire Rod From Italy, Japan, Korea, Spain, and Taiwan; Determination

On the basis of the record ¹ developed in the subject five-year reviews, the United States International Trade Commission (“Commission”) determines, pursuant to the Tariff Act of 1930 (“the Act”), that revocation of the antidumping duty orders on stainless steel wire rod from Japan, Korea, and Taiwan would be likely to lead to continuation or recurrence of material injury within a reasonably foreseeable time.² The Commission further determines that revocation of the antidumping duty orders on stainless steel wire rod from Italy and Spain would not be likely to lead to continuation or recurrence of material injury within a reasonably foreseeable time.³

¹ The record is defined in sec. 207.2(f) of the Commission's Rules of Practice and Procedure (19 CFR 207.2(f)).

² All six Commissioners voted in the affirmative with respect to imports from Japan, Korea, and Taiwan.

³ All six Commissioners voted in the negative with respect to imports from Spain. Chairman Williamson and Commissioners Johanson, Broadbent, and Kieff voted in the negative with respect to imports from Italy; Commissioners Pinkert and Schmidtlein voted in the affirmative with respect to imports from Italy.

Background

The Commission, pursuant to section 751(c) of the Act (19 U.S.C. 1675(c)), instituted these reviews on May 1, 2015 (80 FR 24970 May 1, 2015) and determined on August 12, 2015 that it would conduct full reviews (80 FR 48336 August 12, 2015). Notice of the scheduling of the Commission's review and of a public hearing to be held in connection therewith was given by posting copies of the notice in the Office of the Secretary, U.S. International Trade Commission, Washington, DC, and by publishing the notice in the Federal Register on January 13, 2016 (81 FR 1642). The hearing was held in Washington, DC, on May 18, 2016, and all persons who requested the opportunity were permitted to appear in person or by counsel.

The Commission made these determinations pursuant to section 751(c) of the Act (19 U.S.C. 1675(c)). It completed and filed its determinations in these reviews on July 25, 2016. The views of the Commission are contained in USITC Publication 4623 (July 2016), entitled Stainless Steel Wire Rod from Italy, Japan, Korea, Spain, and Taiwan (Inv. Nos. 731-TA-770-773 and 775 (Third Review)).

By order of the Commission.
Issued: July 25, 2016.
Lisa R. Barton,
Secretary to the Commission.

[FR Doc. 2016-17914 Filed 7-28-16; 8:45 am]

BILLING CODE 7020-02-P